DEPARTMENT OF EDUCATION

National Assessment Governing Board

AGENCY: National Assessment Governing Board, U.S. Department of Education.

ACTION: Announcement of open and closed meetings.

SUMMARY: This notice sets forth the agenda for the May 17-19, 2018 Quarterly Board Meeting of the National Assessment Governing Board (hereafter referred to as Governing Board). This notice provides information to members of the public who may be interested in attending the meeting or providing written comments related to the work of the Governing Board. Notice of this meeting is required under § 10(a)(2) of the Federal Advisory Committee Act (FACA). This meeting notice is late due to a technical issue with the publication of the notice.

DATES: The Quarterly Board Meeting will be held on the following dates:

• May 17, 2018 from 3:00 p.m. to 6:00 p.m.

• May 18, 2018 from 8:30 a.m. to 5:00 p.m.

• May 19, 2018 from 7:30 a.m. to 10:45 a.m.

ADDRESSES: Embassy Suites Montgomery Hotel and Conference Center, 300 Tallapoosa Street, Montgomery, Alabama 36104.

FOR FURTHER INFORMATION CONTACT: Munira Mwalimu, Executive Officer/Designated Federal Official for the Governing Board, 800 North Capitol Street NW, Suite 825, Washington, DC 20002, telephone: (202) 357-6938, fax: (202) 357-6945, email: Munira.Mwalimu@ed.gov.

SUPPLEMENTARY INFORMATION: Statutory Authority and Function: The Governing Board is established under the National Assessment of Educational Progress Authorization Act, Title III of Public Law 107-279. Written comments may be submitted electronically or in hard copy to the attention of the Executive Officer/Designated Federal Official (see contact information noted above). Information on the Governing Board and its work can be found at www.nagb.gov.

The Governing Board is established to formulate policy for the National Assessment of Educational Progress (NAEP). The Governing Board's responsibilities include the following: Selecting subject areas to be assessed, developing assessment frameworks and specifications, developing appropriate student achievement levels for each grade and subject tested, developing standards and procedures for interstate and national comparisons, improving the form and use of NAEP, developing guidelines for reporting and disseminating results, and releasing initial NAEP results to the public.

May 17-19, 2018 Committee Meetings

The Governing Board's standing committees will meet to conduct regularly scheduled work based on agenda items planned for this Quarterly Board Meeting and follow-up items as reported in the Governing Board's committee meeting minutes available at https://www.nagb.gov/governing-board/quarterly-board-meetings.html.

Detailed Meeting Agenda: May 17-19, 2018

May 17: Committee Meetings

Ad Hoc Committee on Measures of Postsecondary Preparedness: Open Session: 3:00 p.m. to 5:00 p.m.

Executive Committee: Open Session: 5:15 p.m. to 6:00 p.m.

May 18: Full Governing Board and Committee Meetings

Full Governing Board: Open Session: 8:30 a.m. to 10:15 a.m.; 1:15 p.m. to 5:00 p.m.

Committee Meetings

Assessment Development Committee (ADC): Open Session: 10:30 a.m. to 1:00 p.m.

Reporting and Dissemination (R&D): Open Session 10:30 a.m. to 12:00 p.m.

Committee on Standards, Design and Methodology (COSDAM): Open Session: 10:30 a.m. to 12:00 p.m.;

Joint Session—R&D and COSDAM: Open Session: 12:00 p.m. to 1:00 p.m.

May 19: Full Governing Board and Committee Meetings

Nominations Committee: Closed Session: 7:30 a.m. to 8:15 a.m.

Full Governing Board: Open Session: 8:30 a.m. to 10:30 a.m.

Ad Hoc Screening Committee on Executive Director Search: Closed Session 11:00 a.m. to 1:00 p.m.

On Thursday, May 17, 2018, the Ad Hoc Committee on Measures of Postsecondary Preparedness will meet in open session from 3:00 p.m. to 5:00 p.m. Thereafter, the Executive Committee will convene in open session from 5:15 p.m. to 6:00 p.m.

On Friday, May 18, 2018, the Governing Board will meet in open session from 8:30 a.m. to 10:15 a.m. From 8:30 a.m. to 8:45 a.m., the Governing Board will review and approve the May 17-19, 2018 Governing Board meeting agenda and meeting minutes from the March 2018 Quarterly Board Meeting. Thereafter, from 8:45 a.m. to 9:15 a.m. the Governing Board will receive welcome remarks from Alabama leaders to include John Merrill, Secretary of State. From 9:15 a.m. to 10:15 a.m., a panel of state leaders and educators will provide a briefing on Pre-K education issues and share information about Alabama's programs. At 10:15 a.m., the Governing Board will recess for a 15 minute break and convene for standing committee meetings which will take place from 10:30 a.m. to 1:00 p.m.

ADC will meet in open session from 10:30 a.m. to 1:00 p.m. The committee will receive a briefing and have a panel discussion related to the NAEP Mathematics Framework. R&D will meet in open session from 10:30 a.m. to 12:00 p.m. to discuss recent NAEP release activities, core contextual variables, and the Long-Term Trend Assessment. From 10:30 a.m. to 11:45 a.m., COSDAM will discuss a draft revised policy for achievement level setting.

Following a short break, COSDAM will convene in a joint open session with R&D to discuss issues related to communication and interpretation of the NAEP achievement levels from 12:00 p.m. to 1:00 p.m.

On Friday, May 18, 2018, the Board will meet in open session from 1:15 p.m. to 2:25 p.m. to receive a briefing on how state mathematics curricula relate to NAEP mathematics. Thereafter, the Board will discuss implementing NAEP assessment schedule priorities from 2:30 p.m. to 3:00 p.m. Following this session, the Board will convene in small breakout discussion groups at 3:15 p.m. to discuss implementing NAEP assessment schedule priorities. The breakout sessions will conclude at 4:15 p.m. Following a short break, the Board will reconvene from 4:30 p.m. to 5:00 p.m. to summarize and reflect on the breakout discussion groups. The May 18, 2018 session of the Governing Board meeting will adjourn at 5:00 p.m.

On Saturday, May 19, 2018, the Nominations Committee will meet in closed session from 7:30 a.m. to 8:15 a.m. The Committee will discuss nominees for Governing Board vacancies for terms beginning October 1, 2018. The Nominations Committee's discussions pertain solely to internal personnel rules and practices of an agency and information of a personal nature where disclosure would constitute a clearly unwarranted invasion of personal privacy. As such, the discussions are protected by exemptions 2 and 6 of § 552b(c) of Title 5 of the United States Code.

On May 19, 2018, the Governing Board will convene in open session from 8:30 a.m. to 9:15 a.m. to receive an update from the Ad Hoc Committee on Post-Secondary Preparedness. The Governing Board will then receive reports from its standing committees from 9:15 a.m. to 9:45 a.m. From 9:45 a.m. to 10:45 a.m. the Governing Board will meet in closed session to receive a briefing on results Connecting NAEP to State and Local as it relates to results for the State Mapping Report and the Stanford Education Data Archive project. This briefing must be in closed session because data for this study has not been released to the public. Public disclosure of secure data would significantly impede implementation of the NAEP assessment program if conducted in open session. Such matters are protected by exemption 9(B) of § 552b of Title 5 U.S.C.

The Governing Board's Ad Hoc Screening Committee—established by the Chair after consultation with the Governing Board—will meet in closed session from 11:00 a.m. to 1:00 p.m. to review applications for the Executive Director vacancy. These discussions pertain solely to internal personnel rules and practices of an agency and information of a personal nature where disclosure would constitute a clearly unwarranted invasion of personal privacy. As such, the discussions are protected by exemptions 2 and 6 of § 552b(c) of Title 5 of the United States Code.

Access to Records of the Meeting: Pursuant to FACA requirements, the public may also inspect the meeting materials at www.nagb.gov beginning on Thursday, May 17, 2018, by 10:00 a.m. EST. The official verbatim transcripts of the public meeting sessions will be available for public inspection no later than 30 calendar days following the meeting.

Reasonable Accommodations: The meeting site is accessible to individuals with disabilities. If you will need an auxiliary aid or service to participate in the meeting (e.g., interpreting service, assistive listening device, or materials in an alternate format), notify the contact person listed in this notice no later than 21 days prior to the meeting.

Electronic Access to this Document: The official version of this document is the document published in the Federal Register. Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe website. You may also access documents of the Department published in the Federal Register by using the article search feature at: www.federalregister.gov. Specifically, through the advanced search feature at this site, you can limit your search to documents published by the Department.

Authority: Pub. L. 107-279, Title III—National Assessment of Educational Progress § 301.

Dated: May 3, 2018.
Munira Mwalimu,
Executive Officer, delegated authority as Designated Federal Official, National Assessment Governing Board (NAGB), U.S. Department of Education.

[FR Doc. 2018-09831 Filed 5-8-18; 8:45 am]

BILLING CODE 4000-01-P